DEPARTMENT OF THE INTERIOR

Office of the Special Trustee for American Indians

Tribal Consultation on Participation by the Office of the Special Trustee for American Indians in the Department of the Interior Consolidation of Agency Appraisal Functions: Reopening of Comment Period

AGENCY: Office of the Special Trustee for American Indians, Interior.

ACTION: Notice of reopening of comment period.

SUMMARY: Notice is hereby given that the period during which the Office of the Special Trustee for American Indians (OST) will accept written comments concerning potential issues related to participation by OST in the Department of the Interior plan to consolidate agency appraisal functions, has been reopened to be effective from the date of this publication in the Federal Register until December 1, 2003. Pursuant to the September 17, 2003 notice published in the Federal Register, the period for written comments on this matter closed on November 7, 2003. In response to tribal requests, however, OST is reopening the comment period and extending it to December 1, 2003, to allow tribes and other interested parties an extended opportunity to provide written comments on this matter.

On June 19, 2003, Secretary of the Interior Gale Norton announced that real estate appraisal functions currently performed by various agencies within the Department would be consolidated into a single office. This action is taken in response to concerns about the objectivity and management of appraisal functions carried out by several agencies within the Department, and documented in reports issued by the Department's Inspector General, the General Accounting Office and other groups.

The goals of a consolidated appraisal organization include: To restore public and consumer confidence in land valuations; to ensure greater appraiser independence for unbiased valuation services that meet the highest professional standards; and a sharing of skills and resources throughout the Department. In addition, the consolidation is expected to provide better coordination and consistency of appraisal guidance, enhanced professional development of appraisers, and greater efficiencies in contract monitoring and development.

Since July 2003, OST has participated in the Departmental action team composed of appraisal and realty specialists from affected offices within the Department. The action team has been meeting to determine the best way to accomplish the consolidation, with as minimal disruption to appraisal services as possible. Participation on this action team, and additional discussions with the Department, indicate that it would be in the best interest of the OST appraisal program to join this consolidation. Specific issues unique to the appraisal of Indian trust assets as conducted by the OST Office of Appraisal Services, and by self-governance and self-determination tribes, however, require special consideration. OST held four tribal consultation sessions to discuss these issues. Two meetings were held on September 24, 2003 in Tulsa, Oklahoma, and two meetings were held on October 28, 2003 in Las Vegas, Nevada. In response to requests for additional time to submit written comments on the proposal to OST, the comment period has been reopened from the date of publication to December 1, 2003.

DATES: All comments are due by December 1, 2003.

ADDRESSES: Send or hand-deliver written comments to: Carrie Moore, Office of the Special Trustee for American Indians, 1849 C Street, NW., Suite 5140, Washington, DC 20240. Submissions by facsimile should be sent to (202) 208-7545.

FOR FURTHER INFORMATION CONTACT: Carrie Moore at (202) 208-4866 or Pat Gerard at (505) 816-1313.

SUPPLEMENTARY INFORMATION: The purpose of the consultation is to provide Indian tribes and other interested parties with the opportunity to comment on issues relevant to OST participation in the Department of the Interior consolidation of agency appraisal programs.

Individual respondents may request confidentiality. If you wish us to withhold your name, street address, and other contact information (such as fax or phone number) from public review or from disclosure under the Freedom of Information Act, you must state this prominently at the beginning of your comment. We will honor your request to the extent allowable by law. We will make available for public inspection in their entirety all submissions from organizations or businesses, and from individuals identifying themselves as representatives or officials of organizations or businesses.

This notice is published in accordance with the authority delegated by the Secretary of the Interior to the Special Trustee for American Indians by 209 DM 11.

Ross Swimmer,
Special Trustee for American Indians, Office of the Special Trustee for American Indians.

[FR Doc. 03-28478 Filed 11-14-03; 8:45 am]

BILLING CODE 4310-02-P